COMMIITTEE FOR THE IMPLEMENTION OF TEXTILE AGREEMENTS

Announcement of Public Comment Period on the Elimination of Paper Visa Requirement with the Hong Kong Special Administrative Regime of the People's Republic of China (HKSAR)

Correction

In notice, document 01-16590, appearing on page 34914, in the issue of Monday, July 2, 2001, make the following correction:

On page 34914, in the first column, under the heading SUPPLEMENTARY INFORMATION: in the fourth paragraph, in the ninth line, “insert date 60 days from publication” should read “August 31, 2001”.

[FR Doc. C1-16590 Filed 7-10-01; 8:45 am]

BILLING CODE 1505-01-D

DEPARTMENT OF THE INTERIOR

National Park Service

Benefits Sharing Environmental Assessment, National Park Service

Correction

In notice document 01-15559 beginning on page 33712 in the issue of Monday, June 25, 2001, make the following corrections:

1. On page 33713, in the first column, in the first paragraph, in the third line, “when it determined” should read “when it is determined”.

2. On the same page, in the same column, in the same paragraph, in the 11th line, “will be adversely impacted” should read, “will not be adversely impacted”.

3. On the same page, in the same column, in the same paragraph, in the third line from the bottom, “authorizes” should read “authorize”.

4. On the same page, in the same column, in the second paragraph, in the fifth line, the internet web address should read “www.nature.nps.gov/benefitssharing”.

5. On the same page, in the same column, in the same paragraph, in the 12th line, “National Park Service.” should read “National Park Service,”.

6. In the same location, “Benefit-Sharing” should read “Benefits-Sharing”

[FR Doc. C1-15559 Filed 7-10-01; 8:45 am]

BILLING CODE 1505-01-D

DEPARTMENT OF LABOR

Pension and Welfare Benefits Administration

29 CFR Part 2520

RIN 1210-AA69; 1210-AA55

Amendments to Summary Plan Description Regulations

Correction

In the issue of Monday July 2, 2001, on page 34994, in the correction of rule document 00-29765, in the third column, in the correction numbered 1, in the third line, “e.g” should read “e.g. pension plans-”.

In the same column, in the correction numbered 2, in the third and fifth lines, “cost sharing” should read “cost-sharing”.

[FR Doc. C0-29765 Filed 7-10-01; 8:45 am]

BILLING CODE 1505-01-D

SECURITIES AND EXCHANGE COMMISSION

[Release No. 34-44467; File No. SR-NASD-2001-38]

Self-Regulatory Organizations; Notice of Filing of Proposed Rule Change by National Association of Securities Dealers, Inc. Relating to the Listing of Additional Shares

June 22, 2001.

Correction

In notice, document 01-16559, beginning on page 34973, in the issue of Monday, July 2, 2001, make the following correction:

On page 34973, in the third column, the date is added as set forth above.

[FR Doc. C1-16559 Filed 7-10-01; 8:45 am]

BILLING CODE 1505-01-D

SECURITIES AND EXCHANGE COMMISSION

[Release No. 34-44470; File No. SR-DTC-2001-10]

Self-Regulatory Organizations: The Depository Trust Company; Notice of Filing and Order Granting Accelerated, Temporary Approval of a Proposed Rule Change to the Admission of Non-U.S. Entities as Direct Depository Participants

June 22, 2001.

Correction

In notice document 01-16558, beginning on page 34972, in the issue of Monday, July 2, 2001, make the following correction:

On page 34972, in the second column, the date is added to read as set forth above.

[FR Doc. C1-16558 Filed 7-10-01; 8:45 am]

BILLING CODE 1505-01-D